DEPARTMENT OF ENERGY

Federal Energy Regulatory Commission

Notice of Application Tendered for Filing With the Commission and Soliciting Additional Study Requests

February 7, 2003.

Take notice that the following hydroelectric application has been filed with the Commission and is available for public inspection.

a. Type of Application: Exemption from licensing.

b. Project No.: 12433-000.

c. Date Filed: January 24, 2003.

d. Applicant: Indian River Power Supply LLC.

e. Name of Project: Indian River Hydro Project.

f. Location: On the Westfield River, near the Town of Russell, in Hampden County, Massachusetts. The proposed project would not occupy any federal lands.

g. Filed Pursuant to: Public Utility Regulatory Policies Act of 1978, 16 U.S.C. 2705, 2708.

h. Applicant Contact: Richard E. Lynch, Sr., Indian River Power Supply LLC, 22 Woodland Avenue, Westfield, MA 01085-2221, (413) 562-0588.

i. FERC Contact: Gaylord W. Hoisington, (202) 502-6032 or gaylord.hoisington@ferc.gov.

j. Cooperating Agencies: We are asking Federal, State, local, and tribal agencies with jurisdiction and/or special expertise with respect to environmental issues to cooperate with us in the preparation of the environmental document. Agencies who would like to request cooperating status should follow the instructions for filing comments described in item k below.

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for Filing Additional Study Requests and Request for Cooperating Agency Status: March 25, 2003.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests and request for cooperating agency status may be filed electronically via the Internet in lieu of paper. The Commission strongly encourages electronic filings. See 18 CFR 385.2001(a)(1)(iii) and the instructions on the Commission's Web site (http://www.ferc.gov) under the “e-Filing” link. After logging into the eFiling system, select “Comment on Filing” from the Filing Type Selection screen and continue with the filing process.

m. The application is not ready for environmental analysis at this time.

n. Description of Project: The proposed project would consist of: (1) An existing 3-foot-high, 377-foot-long concrete dam; (2) a 13-acre impoundment with normal storage of 620 acre-feet to 720 acre-feet; (3) two existing 7-foot-diameter to 12-foot-diameter, 65-foot-long steel penstocks equipped with trashracks; (4) an existing 60-foot-long, 60-foot-wide, 25-foot-high powerhouse containing two Francis turbines with a total installed capacity of 700 kilowatts; (5) a proposed 933-foot-long transmission line connecting to an existing distribution system, and (6) appurtenant facilities. The project would have an average annual generation of 7,400,000 kilowatts.

o. A copy of the application is on file with the Commission and is available for public inspection. This filing may also be viewed on the web at http://www.ferc.gov using the “FERRIS” link. Enter the docket number excluding the last three digits in the docket number field to access the document. For assistance, please contact FERC Online Support at FERCOnlineSupport@ferc.gov or toll-free at (866) 208-3676, or for TTY, contact (202) 502-8659. A copy is also available for inspection and reproduction at the address in item h above.

p. With this notice, we are initiating consultation with the Massachusetts State Historic Preservation Officer (SHPO), as required by Section 106 of the National Preservation Act, and the regulations of the Advisory Council on Historic Preservation, 36 CFR 800.4.

q. Procedural schedule: The application should be processed according to the following Hydro Licensing schedule. Revisions to the schedule will be made as appropriate. The Commission staff proposes to issue one Environmental Assessment (EA) rather than issuing a draft and final EA. Staff intends to provide a 30 day period for entities to comment on the EA, and will take into consideration all comments filed on the EA before final action is taken on the exemption from licensing application. If any person or organization objects to the staff proposed process, they should file comments by the date stipulated in item l above, briefly explaining the basis for their objection.

Issue Acceptance or Deficiency Letter: March 2003

Issue Acceptance Letter: May 2003

Issue Scoping Document 1 for Comments: July 2003

Request Additional Information: August 2003

Issue Scoping Document 2, if Necessary: October 2003

Notice of Application Is Ready for Environmental Analysis: November 2003

Notice of the Availability of the EA: May 2004

Ready for Commission's Decision on the Application: August 2004

Magalie R. Salas,
Secretary.

[FR Doc. 03-3658 Filed 2-13-03; 8:45 am]

BILLING CODE 6717-01-P